FEDERAL COMMUNICATIONS COMMISSION

47 CFR Part 54

[WC Docket No. 10-90; FCC 18-37]

Connect America Fund

AGENCY: Federal Communications Commission.

ACTION: Technical amendments.

SUMMARY: This document corrects errors in the rules that increase the amount of operating costs that carriers that predominately serve Tribal lands can recover from the universal service fund (USF) in recognition that they are likely to have higher costs than carriers not serving Tribal lands. The rules published in the Federal Register on May 1, 2018.

DATES: Effective July 2, 2018.

FOR FURTHER INFORMATION CONTACT: Suzanne Yelen, Wireline Competition Bureau, (202) 418-7400.

SUPPLEMENTARY INFORMATION: This is a summary of the FCC's Erratum, released on June 7, 2018. This summary contains technical amendments to the Commission's rules that were published in the Federal Register at 83 FR 18948 (May 1, 2018). The full text of the Commission's Report and Order, WC Docket No. 10-90; FCC 18-37, released on April 5, 2018 is available for public inspection during regular business hours in the FCC Reference Center, Room CY-A257, 445 12th Street SW, Washington, DC 20554.

In the document published in the Federal Register at 83 FR 18948 (May 1, 2018), amendatory instruction 2 erroneously added text as paragraph (a)(6) to § 54.303. The Commission's intent was to add the text as paragraph (a)(7) to the section. This document corrects that error.

Technical Amendments

List of Subjects in 47 CFR Part 54

Communications common carriers, Health facilities, Infants and children, Internet, Libraries, Reporting and recordkeeping requirements, Schools, Telecommunications, Telephone.

Accordingly, 47 CFR part 54 is corrected by making the following correcting amendments:

PART 54—UNIVERSAL SERVICE

1. The authority citation for part 54 continues to read as follows:

Authority: 47 U.S.C. 151, 154(i), 155, 201, 205, 214, 219, 220, 254, 303(r), 403, and 1302 unless otherwise noted.

2. In § 54.303, add paragraph (a)(7) to read as follows:

§ 54.303 Eligible Capital Investment and Operating Expenses.

(a) * * *

(7) For those study areas where a majority of the housing units are on Tribal lands, as determined by the Wireline Competition Bureau, and meet the following conditions, total eligible annual operating expenses per location shall be limited by calculating Exp (Ŷ + 2.5 * mean square error of the regression): The carrier serving the study area has not deployed broadband service of 10 Mbps download/1 Mbps upload to 90 percent or more of the housing units on the Tribal lands in its study area and unsubsidized competitors have not deployed broadband service of 10 Mbps download/1 Mbps upload to 85 percent or more of the housing units on the Tribal lands in its study area.

* * * * *

Federal Communications Commission.
Marlene Dortch,
Secretary.

[FR Doc. 2018-14149 Filed 6-29-18; 8:45 am]

BILLING CODE 6712-01-P